DEPARTMENT OF DEFENSE

Office of the Secretary

Reestablishment of Department of Defense Federal Advisory Committees

AGENCY: DoD.

ACTION: Notice to reestablish Federal Advisory Committee.

SUMMARY: Under the provisions of 5 CFR 532, Federal Wage System (Pub. L. 92-392), the Federal Advisory Committee Act of 1972 (5 U.S.C. Appendix), the Government in the Sunshine Act of 1976 (5 U.S.C. 552b), and 41 CFR 102-3.50(c), the Department of Defense (DoD) gives notice that it is reestablishing the charter for the Department of Defense Wage Committee (hereafter referred to as “the Committee”).

The Committee is a discretionary federal advisory committee that shall provide the Secretary and the Deputy Secretary of Defense, through the Under Secretary of Defense for Personnel and Readiness (USD(P&R)), independent advice and recommendations on all matters relating to the conduct of wage surveys and the establishment of wage schedules for all appropriated fund and non-appropriated fund wage areas of blue-collar employees within the DoD.

The Committee shall report to the Secretary and Deputy Secretary of Defense, through the USD(P&R). The USD(P&R) may act upon the Committee's advice and recommendations.

The Committee, consistent with 5 CFR 532.227, shall be comprised of seven members—a chairperson and six additional members. Committee members shall be appointed by the Secretary of Defense and their appointments will be renewed on an annual basis. Those members, who are not full-time or permanent part-time Federal officers or employees, shall be appointed to serve as experts and consultants under the authority of 5 U.S.C. § 3109 and serve as special government employees. Each Committee member is appointed to provide advice on behalf of the government on the basis of his or her best judgment without representing any particular point of view and in a manner that is free from conflict of interest. With the exception of travel and per diem for official Committee related travel, Committee members shall serve without compensation, unless authorized by the Secretary of Defense.

The Secretary of Defense may approve the appointment of Committee members for one-to-two year terms of service, with annual renewals; however, no member, unless authorized, by the Secretary of Defense, may serve more than two consecutive terms of service.

The Department, when necessary, and consistent with the Committee's mission and DoD policies/procedures, may establish subcommittees to support the Committee. Establishment of subcommittees will be based upon a written determination, to include terms of reference, by the Secretary of Defense, or the Committee's sponsor.

These Subcommittees shall not work independently of the chartered Committee, and shall report all their recommendations and advice to the Committee for full deliberation and discussion. Subcommittees have no authority to make decisions on behalf of the chartered Committee; nor can any subcommittee or its members update or report directly to the DoD or any Federal officers or employees.

All subcommittee members shall be appointed in the same manner as the Committee members; that is, the Secretary of Defense shall appoint subcommittee members even if the member in question is already a Committee member. Subcommittee members, with the approval of the Secretary of Defense, may serve a term of service on the Subcommittee of one to four years; however, no member shall serve more than two consecutive terms of service on the Subcommittee, unless authorized by the Secretary of Defense.

Subcommittee members, if not full-time or part-time government employees, shall be appointed to serve as experts and consultants under the authority of 5 U.S.C. § 3109, and shall serve as special government employees, whose appointments must be renewed by the Secretary of Defense on an annual basis. With the exception of travel and per diem for official Committee-related travel, Subcommittee members shall serve without compensation.

All subcommittees operate under the provisions of FACA, the Government in the Sunshine Act, governing Federal statutes and regulations, and governing DoD policies/procedures.

FOR FURTHER INFORMATION CONTACT: Jim Freeman, Advisory Committee Management Officer for the Department of Defense, 703-692-5952.

SUPPLEMENTARY INFORMATION: The Committee shall meet at the call of the Committee's Designated Federal Officer, in consultation with Committee's Chairperson. The estimated number of Committee meetings is twenty-six per year.

In addition, the Designated Federal Officer is required to be in attendance at all Committee and subcommittee meetings for the entire duration of each and every meeting; however, in the absence of the Designated Federal Officer, a properly approved Alternate Designated Federal Officer shall attend the entire duration of the Committee or subcommittee meeting.

The Designated Federal Officer, or the Alternate Designated Federal Officer, shall call all of the Committee's and Subcommittee's meetings; prepare and approve all meeting agendas; adjourn any meeting when the Designated Federal Officer, or the Alternate Designated Federal Officer, determines adjournment to be in the public interest or required by governing regulations or DoD policies/procedures; and chair meetings when directed to do so by the official to whom the Committee reports.

Pursuant to 41 CFR §§ 102-3.105(j) and 102-3.140, the public or interested organizations may submit written statements to Department of Defense Wage Committee membership about the Committee's mission and functions. Written statements may be submitted at any time or in response to the stated agenda of planned meeting of Department of Defense Wage Committee.

All written statements shall be submitted to the Designated Federal Officer for the Department of Defense Wage Committee, and this individual will ensure that the written statements are provided to the membership for their consideration. Contact information for the Department of Defense Wage Committee's Designated Federal Officer can be obtained from the GSA's FACA Database— https://www.fido.gov/facadatabase/public.asp.

The Designated Federal Officer, pursuant to 41 CFR § 102-3.150, will announce planned meetings of the Department of Defense Wage Committee. The Designated Federal Officer, at that time, may provide additional guidance on the submission of written statements that are in response to the stated agenda for the planned meeting in question.

Dated: November 13, 2012.
Aaron Siegel,
Alternate OSD Federal Register Liaison Officer, Department of Defense.

[FR Doc. 2012-27923 Filed 11-15-12; 8:45 am]

BILLING CODE 5001-06-P